DEPARTMENT OF STATE

[Public Notice: 11613]

Notice of Public Meeting in Preparation for International Maritime Organization SDC 8 Meeting

The Department of State will conduct a public meeting at 1:00 p.m. on Thursday, January 13, 2022, by way of teleconference. Members of the public may participate up to the capacity of the teleconference phone line, which can handle 500 participants. To RSVP, participants should contact the meeting coordinator, LCDR Dimitrios Wiener, by email at Dimitrios.N.Wiener@uscg.mil. To access the teleconference line, participants should call (202) 475-4000 and use Participant Code: 87723987#.

The primary purpose of the meeting is to prepare for the eighth session of the International Maritime Organization's (IMO) Sub-Committee on Ship Design and Construction (SDC 8) to be held remotely from Monday, January 17, 2022 to Friday, January 21, 2022.

The agenda items to be considered at the public meeting mirror those to be considered at SDC 8, and include:

—Adoption of the agenda.

—Decisions of other IMO bodies.

—Safety measures for non-SOLAS ships operating in polar waters.

—Mandatory instrument and/or provisions addressing safety standards for the carriage of more than 12 industrial personnel on board vessels engaged on international voyages.

—Development of Explanatory Notes to the Interim guidelines on second generation intact stability criteria.

—Amendments to the 2011 ESP Code.

—Mandatory application of the Performance standard for protective coatings for void spaces on bulk carriers and oil tankers.

—Performance standard for protective coatings for void spaces on all types of ships.

—Safety objectives and functional requirements of the Guidelines on alternative design and arrangements for SOLAS chapters II-1 and III.

—Unified interpretation to provisions of IMO safety, security, and environment-related conventions.

—Revisions of the 1979, 1989 and 2009 MODU Codes and associated MSC circulars to prohibit the use of materials containing asbestos, including control of the storage of such materials on board.

—Development of amendments to SOLAS regulation II-1/3-4 to apply requirements for emergency towing equipment for tankers to other types of ships.

—Revision of the Performance standards for water level detectors on bulk carriers and single hold cargo ships other than bulk carriers (resolution MSC.188(79)).

—Review of the Guidelines for the reduction of underwater noise (MEPC.1/Circ.833) and identification of the next steps.

—Biennial status report and provisional agenda for SDC 9.

—Any other business.

—Election of the Chair and Vice-Chair for 2022 and 2023.

—Report to the Maritime Safety Committee.

Please note: The IMO may, on short notice, adjust the SDC 8 agenda to accommodate the constraints associated with the virtual meeting format. Any changes to the agenda will be reported to those who RSVP and those in attendance at the meeting.

Those who plan to participate may contact the meeting coordinator, LCDR Dimitrios Wiener, by email at Dimitrios.N.Wiener@uscg.mil, or in writing at 2703 Martin Luther King Jr. Ave. SE, Stop 7509, Washington, DC 20593-7509. Members of the public needing reasonable accommodation should advise LCDR Dimitrios Wiener not later than January 10, 2022. Requests made after that date will be considered, but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2021-27848 Filed 12-22-21; 8:45 am]

BILLING CODE 4710-09-P